DEPARTMENT OF HOMELAND SECURITY

Federal Emergency Management Agency

[Docket ID FEMA-2008-0010]

Cancellation; Federal Advisory Committee Meeting: Board of Visitors for the National Fire Academy

AGENCY: Federal Emergency Management Agency, DHS.

ACTION: Notice of meeting cancellation.

SUMMARY: The meeting of the Board of Visitors for the National Fire Academy (Board) scheduled for Friday, October 5, from 8:30 a.m. to 5 p.m. EST, and Saturday, October 6, 2012, from 9 a.m. to 1:30 p.m. EST is cancelled. Notice of this meeting was published in the September 17, 2012, issue of the Federal Register.

FOR FURTHER INFORMATION CONTACT: Cindy Wivell, 16825 South Seton Avenue, Emmitsburg, Maryland 21727, telephone (301) 447-1157, fax (301) 447-183473, and email Cindy.Wivell@fema.dhs.gov.

SUPPLEMENTARY INFORMATION: Notice of this cancellation of this meeting is given under the Federal Advisory Committee Act (FACA), Public Law 92-463, as amended, 5 U.S.C. App. Notice of this meeting was published in the September 17, 2012, issue of the Federal Register at 77 FR 57102.

Purpose of the Board

The purpose of the Board is to review annually the programs of the National Fire Academy (Academy) and advise the Administrator of the Federal Emergency Management Agency (FEMA), through the United States Fire Administrator, regarding the operation of the Academy and any improvements therein that the Board deems appropriate.

Dated: October 3, 2012.
Denis G. Onieal,
Superintendent, National Fire Academy, United States Fire Administration, Federal Emergency Management Agency.

[FR Doc. 2012-25095 Filed 10-10-12; 8:45 am]

BILLING CODE 9111-45-P